DEPARTMENT OF HOMELAND SECURITY

Coast Guard

33 CFR Part 117

[USCG-2008-0477]

RIN 1625-AA-09

Drawbridge Operation Regulations; Intracoastal Waterway (ICW); Beach Thorofare, NJ

AGENCY: Coast Guard, DHS.

ACTION: Notice of temporary deviation from regulations.

SUMMARY: The Commander, Fifth Coast Guard District, has approved a temporary deviation from the regulations governing the operation of the Margate Bridge, at ICW mile 74, across Beach Thorofare at Margate, New Jersey. The deviation is necessary to sandblast, paint and make repairs to the bridge. This deviation allows the bridge to provide partial vessel openings.

DATES: This deviation is effective from 7 a.m. on October 1, 2008, to 11:59 p.m. on December 31, 2008.

ADDRESSES: Documents indicated in this preamble as being available in the docket are part of docket USCG-2008-0477 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Mrs. Sandra S. Elliott, Bridge Management Specialist, Fifth Coast Guard District, at (757) 398-6557.

SUPPLEMENTARY INFORMATION: The subcontractor on behalf of the Margate Bridge Company, who owns and operates this double-leaf bascule drawbridge, has requested a temporary deviation from the current operating regulations set out in 33 CFR 117.5 that requires the bridge to open promptly and fully for the passage of vessels when a request to open is given.

Margate Bridge, located at ICW mile 74, across Beach Thorofare at Margate, New Jersey, has a vertical clearance in the closed position to vessels of 14 feet above mean high water (MHW).

The Coast Guard reviewed the 2007 bridge logs provided by the Margate Bridge Company. The logs recorded approximately 79 vessel openings granted in October, 34 vessel openings granted in November and 4 vessel openings granted in December of last year.

Under this temporary deviation, the drawbridge will provide partial openings of the lift spans for vessels. The maintenance and repairs require immobilizing half of the draw span to single-leaf operation each day, beginning 7 a.m. on Wednesday, October 1, 2008, until and including 11:59 p.m. Wednesday, December 31, 2008, with a work barge occupying one-half of the 58-foot wide channel under the bridge, so passage through the bridge will be limited to a 29-foot width for the duration of the project. The opposite connecting span while not under repair will continue to open for vessels if at least a half-hour advance notice is given to the bridge tender at (609) 822-9175 or via marine radio on channel 13 VHF. Mariners requiring the full opening of the lift spans or the full width of the channel under the bridge will be directed to use the Atlantic Ocean as the alternate route between Absecon and Great Egg Harbor Inlets.

The Coast Guard will inform the users of the waterway through our Local and Broadcast Notices to Mariners of the partial openings of the draw span to minimize transiting delays caused by the temporary deviation.

In accordance with 33 CFR 117.35(e), the drawbridge must return to its regular operating schedule immediately at the end of the designated time period. This deviation from the operating regulations is authorized under 33 CFR 117.35.

Dated: June 11, 2008.
Waverly W. Gregory, Jr.,
Chief, Bridge Administration Branch, Fifth Coast Guard District.

[FR Doc. E8-13879 Filed 6-18-08; 8:45 am]

BILLING CODE 4910-15-P